DEPARTMENT OF HEALTH AND HUMAN SERVICES

Solicitation of Written Comments on Draft HHS Strategic Framework on Multiple Chronic Conditions

AGENCY: Department of Health and Human Services, Office of the Secretary.

ACTION: Notice.

SUMMARY: The Office of Public Health and Science is soliciting public comment on the HHS Interagency Workgroup on Multiple Chronic Conditions draft “HHS Strategic Framework on Multiple Chronic Conditions.”

DATES: Comments on the HHS Interagency Workgroup on Multiple Chronic Conditions draft strategic framework should be received no later than 5:30 p.m. on June 18, 2010.

ADDRESSES: The draft strategic framework can be found at http://www.hhs.gov/ophs/initiatives/mcc/index.html. Comments are preferred electronically and may be addressed to MCC@hhs.gov. Written responses should be addressed to Department of Health and Human Services, 200 Independence Avenue, SW., Room 736-E, Washington, DC 20201, Attention: MCC Strategic Framework.

FOR FURTHER INFORMATION CONTACT: Monica L. Stevenson, (202) 401-6998 or MCC@hhs.gov.

SUPPLEMENTARY INFORMATION:

I. Background

Approximately 75 million Americans have multiple (2 or more) concurrent chronic conditions, including problems such as hypertension, heart disease, arthritis, diabetes, mental health conditions, and chronic respiratory infections. As the number of chronic conditions in an individual increases, the risks of the following outcomes also increase: Mortality, poor functional status, unnecessary hospitalizations, adverse drug events, duplicative tests, and conflicting medical advice. Sixty-six percent of total health care spending is directed toward care for the approximately 27 percent of Americans with multiple chronic conditions (MCC). MCC can contribute to frailty and disability; conversely, most older persons who are frail or disabled have MCC. It is the confluence of MCC and functional limitations, especially the need for assistance with activities of daily living, that produces high levels of spending.

Developing and implementing the HHS Initiative on Multiple Chronic Conditions is the responsibility of the Office of Public Health and Science (OPHS), located within the Office of the Secretary, Department of Health and Human Services (HHS). OPHS advises the Secretary on matters involving the nation's public health, serves as the focal point for leadership and coordination across the Department in public health and science, and leads the U.S. Public Health Service (USPHS) Commissioned Corps.

As part of the HHS Initiative on Multiple Chronic Conditions, OPHS is responsible for convening the HHS Interagency Workgroup on Multiple Chronic Conditions. The Workgroup has drafted a “Strategic Framework on Multiple Chronic Conditions” that addresses approaches to improving the health of individuals with concurrent multiple chronic conditions by providing options for HHS to strengthen coordination of its efforts internally and collaboration with stakeholders externally. The intent of the strategic framework is to improve the foundation for realizing optimum health and quality of life for individuals with multiple chronic conditions. To assist the Workgroup in obtaining broad input in the development of the strategic framework, HHS, through this request for information (RFI), is seeking comments from stakeholders and the public on the draft strategic framework. The draft strategic framework can be found at http://www.hhs.gov/ophs/initiatives/mcc/index.html.

II. Information Request

The OPHS, on behalf of the HHS Interagency Workgroup on Multiple Chronic Conditions, requests input on the draft “HHS Strategic Framework on Multiple Chronic Conditions.” In addition to general comments, the Workgroup is seeking input on any additional gaps not addressed in the draft document.

III. Potential Responders

HHS invites input from a broad range of individuals and organizations that have interests in MCC and persons with such conditions. Some examples of these organizations include, but are not limited to, the following:

—General public

—Health care, professional, and educational organizations

—Physicians, nurses, hospitals, and other health-care system providers

—State and local public health agencies

—Public health organizations

—Foundations

—Disease groups

—Chronic care and advocacy groups

—Aging-related organizations

—Medicaid- and Medicare-related organizations

—Pharmacy groups

—Insurers and business groups

—Collaboratives and consortia.

When responding, please self-identify with any of the above or other categories (include all that apply) and your name. Anonymous submissions will not be considered.

The submission of written materials in response to the RFI should not exceed 5 pages, not including appendices and supplemental documents. Responders may submit other forms of electronic materials to demonstrate or exhibit concepts of their written responses.

Dated: May 13, 2010.
Anand Parekh,
Deputy Assistant Secretary for Health (Science and Medicine).

[FR Doc. 2010-11956 Filed 5-18-10; 8:45 am]

BILLING CODE 4150-28-P